DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of additional persons whose property and interests in property have been blocked pursuant to the Foreign Narcotics Kingpin Designation Act (21 U.S.C. 1901-1908, 8 U.S.C. 1182).

DATES: The designation by the Secretary of the Treasury of the twenty-three individuals and nineteen entities identified in this notice pursuant to section 805(b) of the Kingpin Act is effective on December 12, 2007.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on demand service, tel.: (202) 622-0077.

Background

The Foreign Narcotics Kingpin Designation Act (“Kingpin Act”) became law on December 3, 1999. The Kingpin Act establishes a program targeting the activities of significant foreign narcotics traffickers and their organizations on a worldwide basis. It provides a statutory framework for the President to impose sanctions against significant foreign narcotics traffickers and their organizations on a worldwide basis, with the objective of denying their businesses and agents access to the U.S. financial system and to the benefits of trade and transactions involving U.S. companies and individuals.

The Kingpin Act blocks all property and interests in property, subject to U.S. jurisdiction, owned or controlled by significant foreign narcotics traffickers as identified by the President. In addition, the Kingpin Act blocks the property and interests in property, subject to U.S. jurisdiction, of foreign persons designated by the Secretary of Treasury, in consultation with the Attorney General, the Director of Central Intelligence, the Director of the Federal Bureau of Investigation, the Administrator of the Drug Enforcement Administration, the Secretary of Defense, the Secretary of State, and the Secretary of Homeland Security who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On December 12, 2007, OFAC designated twenty-three additional individuals and nineteen additional entities whose property and interests in property are blocked pursuant to section 805(b) of the Foreign Narcotics Kingpin Designation Act.

The list of additional designees follows:

Individuals:

1. CAZARES SALAZAR, Blanca Margarita, (a.k.a. Blanca Margarita CAZAREZ SALAZAR; a.k.a. Blanca CAZARES MESA; a.k.a. Blanca CAZARES; a.k.a. Blanca CAZAREZ MESA; a.k.a. Chiquis CAZAREZ; a.k.a. Chiquis CAZAREZ SALAZAR; a.k.a. Blanca Margarita CAZAREZ SALAZAR de MEZA; a.k.a. Blanca Margarita GASTELLUM CAZARES; a.k.a. Blanca Margarita CAZARES GASTELLUM; a.k.a. Blanca Margarita GASTELUM CAZAREZ DE MEZA; a.k.a. Blanca Margarita CAZARES de MEZA; a.k.a. Blanca Margarita GASTELLUM; a.k.a. Blanca CAZARES GASTELUM); c/o CHIQUIS CAZAREZ CASA DE CAMBIO, Sepulveda con Juarez y Grandos, Culiacan, Sinaloa, Mexico; Calle G. Robles No. 152, Culiacan, Sinaloa, Mexico; Urban Lot 11, Manzana 35, Zona 2, Culiacan, Sinaloa, Mexico; Calle Mariano Escobedo No. 366, Apt. 102, Colonia Centro, Culiacan, Sinaloa, Mexico; Avenida Rodolfo G. Robles No. 166, Colonia Jorge Almada, Culiacan, Sinaloa, Mexico; Avenida Rodolfo G. Robles No. 153 South, Colonia Jorge Almada, Culiacan, Sinaloa, Mexico; Avenida Ignacio Aldama No. 257 Norte, Culiacan, Sinaloa, Mexico; Calle Mariano Escobedo No. 366, #102, Culiacan, Sinaloa, Mexico; Calle Juan de Dios Batiz No. 139, Culiacan, Sinaloa, Mexico; 9311 Clancey Avenue, Downey, CA 90240; c/o TOYS FACTORY, S.A. DE C.V.; c/o SIN-MEX IMPORTADORA, S.A. DE C.V.; DOB 18 Sep 1954; Alt. DOB 18 Sep 1955; Citizen Mexico; Alt. Citizen United States; Nationality Mexico; POB Guayabito, Pericos, Morocito, Sinaloa, Mexico; CURP # CASB540918MSLZLL00 (Mexico); R.F.C. #CASB540918LVI (Mexico); Voter ID # CZSLBL54091825M200 (Mexico); (INDIVIDUAL) [SDNTK]

2. MEZA GASPAR, Arturo, (a.k.a. Arturo MEZA); Avenida Rodolfo G. Robles No. 153, Sur, Colonia Aldama, Culiacan, Sinaloa, Mexico; Predio de San Rafael, Sindicatura de Costa Rica, Culiacan, Sinaloa, Mexico; Avenida Ignacio Aldama No. 257 Norte, Culiacan, Sinaloa, Mexico; Calle Mariano Escobedo No. 366, #102, Culiacan, Sinaloa, Mexico; Calle Juan de Dios Batiz No. 139, Culiacan, Sinaloa, Mexico; c/o SISTEMA DE RADIO DE SINALOA, S.A. DE C.V.; c/o TOYS FACTORY, S.A. DE C.V.; c/o SIN-MEX IMPORTADORA, S.A. DE C.V.; c/o CONSORCIO INMOBILIARIO DEL VALLE DE CULIACAN, S.A. DE C.V.; c/o OPERADORA INTEGRAL DE COMERCIO, S.A. DE C.V.; DOB 4 Jul 1946; POB Jacola, Culiacan, Sinaloa, Mexico; Citizen Mexico; Nationality Mexico; R.F.C. # MEGA460704 (Mexico); Voter ID# MZGSAR46070425H400 (Mexico); (INDIVIDUAL) [SDNTK]

3. MEZA CAZARES, Arturo, (a.k.a. Arturo MEZA GASTELLUM; a.k.a. Arturo MEZA CAZAREZ; a.k.a. Arturo MEZA, JR.); Avenida Rodolfo Robles 153 Sur, Colonia Jorge Almada, Culiacan, Sinaloa, Mexico; Avenida Ignacio Aldama #257, Colonia Centro, Culiacan, Sinaloa, Mexico; Calle G. Robles No. 153, Colonia Almada Sur, Culiacan, Sinaloa, Mexico; Avenida Rodolfo G. Robles No. 153 Sur, Colonia Almada, Culiacan, Sinaloa, Mexico; Calle Benito Juarez No. 636, Oriente, Colonia Centro, Culiacan, Sinaloa, Mexico; Predio de San Rafael, Sindicatura de Costa Rica, Culiacan, Sinaloa, Mexico; Avenida Ignacio Aldama No. 257 Norte, Culiacan, Sinaloa, Mexico; c/o SISTEMA DE RADIO DE SINALOA, S.A. DE C.V.; c/o CONSORCIO INMOBILIARIO DEL VALLE DE CULIACAN, S.A. DE C.V.; c/o COMERICAL DOMELY, S.A. DE C.V.; DOB 6 Mar 1976; Alt. DOB 29 Mar 1976; POB Culiacan, Sinaloa, Mexico; Citizen Mexico; Nationality Mexico; R.F.C. # MECA760306V70 (Mexico); Alt. R.F.C. # MECA760329; California identification card number B9457110 (United States); (INDIVIDUAL) [SDNTK]

4. MEZA CAZARES, Gipsy, (a.k.a. Gipsy MEZA GASTELLUM; a.k.a. Gipzy MEZA CAZAREZ; a.k.a. Gipsy MEZA CAZAREZ); Mariano Escobedo No. 366-102, Colonia Centro, Culiacan, Sinaloa, Mexico; Calle G. Robles No. 153, Colonia Almada Sur, Culiacan, Sinaloa, Mexico; No. 626 Calle Benito Juarez, Culiacan, Sinaloa, Mexico; c/o SISTEMA DE RADIO DE SINALOA, S.A. DE C.V.; c/o CONSORCIO INMOBILIARIO DEL VALLE DE CULIACAN, S.A. DE C.V.; c/o COMERCIAL JOANA, S.A. DE C.V.; DOB 24 Sep 1973; Alt. DOB 24 Sep 1972; Citizen Mexico; Nationality Mexico; POB Culiacan, Sinaloa, Mexico; R.F.C. # MECG730924N73 (Mexico); Alt. R.F.C. # MECG720924N75 (Mexico); (INDIVIDUAL) [SDNTK]

5. MEZA CAZARES, Lizbeth, (a.k.a. Lizbeth MEZA GASTELLUM; a.k.a. Lizbeth MEZA CAZAREZ); Avenida Rodolfo Robles 153 Sur, Colonia Jorge Almada, Culiacan, Sinaloa, Mexico; Calle G. Robles No. 153, Colonia Almada Sur, Culiacan, Sinaloa, Mexico; Avenida Rodolfo G. Robles No. 153 Sur, Colonia Almada, Culiacan, Sinaloa, Mexico; No. 154 Avenida Teofilo Noris, Colonia Almada, Culiacan, Sinaloa, Mexico; Calle Juan de Dios Batiz No. 139, Culiacan, Sinaloa, Mexico; Cll Villa Santander 2834, Villas del Rio Culiacan Villas del Rio Villa Vizcaya, Culiacan Rosales, Culiacan, Sinaloa, Mexico; c/o SISTEMA DE RADIO DE SINALOA, S.A. DE C.V.; c/o CONSORCIO INMOBILIARIO DEL VALLE DE CULIACAN, S.A. DE C.V.; DOB 5 Jan 1981; Alt. DOB 15 Jan 1981; Citizen Mexico; Nationality Mexico; POB Culiacan, Sinaloa, Mexico; R.F.C. # MECL810115 (Mexico); (INDIVIDUAL) [SDNTK]

6. PATRACA PONCE, Jorge Normando, Escobedo No. 366 Oriente, Departamento No. 102, Culiacan, Sinaloa, Mexico; Calle Mariano Escobedo No. 366-102, Colonia Centro, Tijuana, Baja California, Mexico; Edo. de Tabasco # 1423, Culiacan, Sinaloa, Mexico; Cll Cerro de San Cayetano 728, Colinas de San Miguel, Culiacan Circuito Ceroo de la Silla, Culiacan Rosales, Culiacan, Mexico; Avenida Jose Maria Morelos 302 Pte, Local 3, Col. Sector Culiacan Centro, Culiacan, Sinaloa, 80000, Mexico; c/o SISTEMA DE RADIO DE SINALOA, S.A. DE C.V.; c/o OPERADORA INTEGRAL DE COMERCIO, S.A. DE C.V.; DOB 23 Apr 1974; POB Culiacan, Sinaloa, Mexico; Alt. POB Tijuana, Baja California, Mexico; Citizen Mexico; Nationality Mexico; Passport 040015561 (Mexico); R.F.C. # PAPJ740423DB8 (Mexico); Voter ID# PTPNJR74042325H500 (Mexico); (INDIVIDUAL) [SDNTK]

7. PEREZ VERDUZCO, Roberto, (a.k.a. Roberto PEREZ VERDUGO); Calle Cerro Agudo No. 3191, Colonia Loma Linda, Culiacan, Sinaloa, Mexico; c/o SEPRIV, S.A. DE C.V. ; DOB 29 Oct 1963; Citizen Mexico; Nationality Mexico; POB Culiacan, Sinaloa, Mexico; Passport 040049618 (Mexico); R.F.C. # PEVR6310292D8 (Mexico); CURP # PEVR631029HSLRRB06 (Mexico); (INDIVIDUAL) [SDNTK]

8. BELTRAN ROMERO, Mireya Denisse, Paseo Estrella de Mar No. 1210, Seccion Coronado, Colonia Playas, Tijuana, Baja California, Mexico; c/o OPERADORA INTEGRAL DE COMERCIO, S.A. DE C.V.; c/o TECNOLOGIA DIGITAL Y SERVICIOS, S.A. DE C.V.; DOB 11 Mar 1981; Citizen Mexico; Nationality Mexico; POB Tijuana, Baja California, Mexico; R.F.C. # BERM810311CF0 (Mexico); Passport 03900215458 (Mexico); (INDIVIDUAL) [SDNTK]

9. BELTRAN SANCHEZ, Hector Manuel, Paseo Estrella Del Mar No. 1210, Playas de Tijuana, Tijuana, Baja California, Mexico; Manuel M. Flores 20 Montebello, Tijuana, Baja California, Mexico; c/o OPERADORA INTEGRAL DE COMERCIO, S.A. DE C.V.; c/o TECNOLOGIA DIGITAL Y SERVICIOS, S.A. DE C.V.; DOB 2 Mar 1952; Citizen Mexico; Nationality Mexico; POB Culiacan, Sinaloa, Mexico; R.F.C. # BESH520302AS4 (Mexico); (INDIVIDUAL) [SDNTK]

10. CAZAREZ PEREZ, Maria Tiburcia, (a.k.a. Maria Tiburcia CAZARES PEREZ); Calle Isla del Oeste No. 103, La Primavera, Culiacan, Sinaloa; Mexico; c/o CAZPER IMPORTACIONES, S.A. DE C.V.; DOB 14 Oct 1962; POB Campo Tribolet, Perteneciente a la sindicatura de Sataya, Navolato, Sinaloa, Mexico; Citizen Mexico; Nationality Mexico; CURP # CAPT621014MSLZRB00 (Mexico); R.F.C. # CAPT6210144PA (Mexico); (INDIVIDUAL) [SDNTK]

11. CAZAREZ PEREZ, Irma, (a.k.a. Irma CAZARES PEREZ); Calle Isla del Oeste No. 103, La Primavera, Culiacan, Sinaloa, Mexico; c/o CAZPER IMPORTACIONES, S.A. DE C.V.; DOB 27 Sep 1956; POB Zapote de los Moya, Mocorito, Sinaloa, Mexico; Citizen Mexico; Nationality Mexico; CURP # CAPI560927MSLZRR15 (Mexico); Alt. CURP # CAPI560927MSLZRR07 (Mexico); R.F.C. # CAPI560927RF4 (Mexico); (INDIVIDUAL) [SDNTK]

12. CAZAREZ PEREZ, Efrain, (a.k.a. Efrain CAZARES PEREZ); Calle Torre de Londres No. 7028, Fraccionamiento Las Torres, Culiacan, Sinaloa, Mexico; c/o CAZPER IMPORTACIONES, S.A. DE C.V.; DOB 16 May 1965; Citizen Mexico; Nationality Mexico; POB Campo Loaiza, Sinaloa, Mexico; R.F.C. # CAPE6505164F5 (Mexico); (INDIVIDUAL) [SDNTK]

13. AGUIRRE SANCHEZ, Blanca Armida, Blvd. Agua Caliente No. 148, Tijuana, Baja California, Mexico; Calle Ixtapan de la Sal No. 12137, Fraccionamiento Colinas de Agua Caliente, Tijuana, Baja California, Mexico; C. Cerro Alto No. 7855, Fracc. Lomas de Agua Caliente, Tijuana, Baja California, Mexico; Avenida Central No. 10200, Departamento 401 Guion “E,” Colonia Hipodromo Dos, Tijuana, Baja California, Mexico; Diaz Miron, Calle 1903 3 Zona Central, Tijuana, Baja California, Mexico; c/o MULTISERVICIOS AGSA, S.A. DE C.V.; c/o AGBAS CONSULTORES, S.A. DE C.V.; c/o AGBA CONSULTORES CASA DE CAMBIO; c/o MEXGLOBO, S.A. DE C.V.; c/o COCINA DE TIJUANA, S. DE R.L. DE C.V.; c/o HACIENDA CIEN ANOS DE TIJUANA, S. DE R.L. DE C.V.; c/o COCINA ANTIGUA, S. DE R.L. DE C.V.; DOB 7 Mar 1958; Citizen Mexico; Nationality Mexico; POB Tijuana, Baja California, Mexico; Passport 04020067193 (Mexico); Voter ID # AGSNBL58030702M801 (Mexico); R.F.C. # AUSB580307CR4 (Mexico); Alt. R.F.C. # AUSB580307CRA (Mexico); (INDIVIDUAL) [SDNTK]

14. AGUIRRE SANCHEZ, Claudia, Calle Gladiolas No. 28, Fraccionamiento Del Prado, Tijuana, Baja California, Mexico; Calle Garita de Otay No. 1408, Colonia Mesa de Otay, Tijuana, Baja California, Mexico; Priv del Cesar No. 7013, Fracc. Racial Agua Caliente, Tijuana, Baja California, Mexico; Cll Gladiolas 11449, Lomas de Agua Caliente c de Las Torres c de S Fco, Tijuana 22024, Baja California, Mexico; c/o MULTISERVICIOS AGSA, S.A. DE C.V.; c/o MEXGLOBO, S.A. DE C.V.; c/o COCINA DE TIJUANA, S. DE R.L. DE C.V.; c/o HACIENDA CIEN ANOS DE TIJUANA, S. DE R.L. DE C.V.; c/o COCINA ANTIGUA, S. DE R.L. DE C.V.; DOB 4 Jan 1969; Citizen Mexico; Nationality Mexico; POB Tijuana, Baja California, Mexico; Voter ID # AGSNCL69010402M000 (Mexico); Professional Cedula # 1993358 (Mexico); (INDIVIDUAL) [SDNTK]

15. OLIVAS OJEDA, Marco Antonio, Calle Jesus Almada No. 214, Colonia Pueblo Nuevo 1, Navolato, Sinaloa, Mexico; Ave. Naciones Unidas No. 5677-4, Condominio Essex, Jard. de la Parque Regenci., Zapopan, Jalisco, Mexico; c/o TOYS FACTORY, S.A. DE C.V.; c/o SIN-MEX IMPORTADORA, S.A. DE C.V.; c/o COMERCIAL JOANA, S.A. DE C.V.; c/o COMERCIALIZADORA BRIMAR'S, S.A. DE. C.V.; c/o COMERCIAL DOMELY, S.A. DE C.V.; DOB 14 June 1960; Citizen Mexico; Nationality Mexico; POB Navolato, Sinaloa, Mexico; CURP # OIOM600614HSLLJR08 (Mexico); R.F.C # OIOM600614YA5 (Mexico); Voter ID # OIOJMR60061425H900 (Mexico); (INDIVIDUAL) [SDNTK]

16. RUIZ ZAVALA, Aleyda, (a.k.a. Aleida RUIZ ZAVALA); Calle Cerro de la Memoria No. 1976, Fraccionamiento Colinas de San Miguel, Culiacan, Sinaloa, Mexico; c/o TOYS FACTORY, S.A. DE C.V.; c/o SIN-MEX IMPORTADORA, S.A. DE C.V.; c/o COMERCIALIZADORA BRIMAR'S, S.A. DE. C.V.; DOB 10 May 1962; Citizen Mexico; Nationality Mexico; POB Tamazula, Durango, Mexico; CURP # RUZA620510MDGZVL04 (Mexico); R.F.C # RUZA6205108L5 (Mexico); Voter ID # RZZVAL62051010M200 (Mexico); (INDIVIDUAL) [SDNTK]

17. ZAZUETA URREA, Epifanio, V Guerrero 109 Nte. Centro Colon y Escobedo CP 80000, Culiacan, Sinaloa, Mexico; Calle Mariano Escobedo Ote No. 467-4, Col. Centro, Culiacan, Sinaloa, Mexico; c/o SIN-MEX IMPORTADORA, S.A. DE C.V.; c/o CONSORCIO INMOBILIARIO DEL VALLE DE CULIACAN, S.A. DE C.V.; DOB 1 Aug 1947; Citizen Mexico; Nationality Mexico; POB Sinaloa, Mexico; Passport 040032826 (Mexico); R.F.C # ZAUE470801DK6 (Mexico); Voter ID # ZZUREP47080125H900 (Mexico); (INDIVIDUAL) [SDNTK]

18. SARABIA DIAZ, Carlos Cristino, Calle Dalia No. 37, Colonia Aguaruto, Culiacan, Sinaloa, Mexico; c/o TOYS FACTORY, S.A. DE C.V.; c/o COMERCIAL JOANA, S.A. DE C.V.; c/o COMERCIALIZADORA BRIMAR'S, S.A. DE. C.V.; c/o COMERCIAL DOMELY, S.A. DE C.V.; DOB 24 Jul 1971; POB Culiacan, Sinaloa, Mexico; Citizen Mexico; Nationality Mexico; CURP # SADC710724HSLRZR03 (Mexico); R.F.C. # SADC710724I71 (Mexico); (INDIVIDUAL) [SDNTK]

19. GOMEZ LLANOS AISPURO, Jose Rolando, Acoxpa Andador 9, Edificio 44, Colonia Villa, Coapa, Distrito Federal, Mexico; Calle Bradley, No. 5, Col. Anzures, Deleg. Miguel Hidalgo, Mexico City, D.F., Mexico; c/o COMERCIAL JOANA, S.A. DE C.V.; c/o COMERCIALIZADORA BRIMAR'S, S.A. DE. C.V.; DOB 08 Feb 1971; Alt. DOB 02 Feb 1971; POB Culiacan, Sinaloa, Mexico; Citizen Mexico; Nationality Mexico; R.F.C. # GOAR710208RS0 (Mexico); Passport 340038412 (Mexico); Alt. Passport 340015480 (Mexico); (INDIVIDUAL) [SDNTK]

20. ROBLEDO CORONEL, Baldemar, Prol. Sta. Tecla No. 51, Casa 12. Cond. Viole, Los Reyes, Coyoacan, Mexico; Blvd. FCO I Madero Pte. No. 650, Col. Centro, Culiacan, Sinaloa, Mexico; c/o COMERCIAL JOANA, S.A. DE C.V.; c/o COMERCIALIZADORA BRIMAR'S, S.A. DE. C.V.; DOB 27 Jan 1974; POB Santiago Papasquiaro, Durango, Mexico; Citizen Mexico; Nationality Mexico; Passport 420005453 (Mexico); CURP # ROCB740127HDGBRL07 (Mexico); R.F.C. # ROCB740127KZ0 (Mexico); (INDIVIDUAL) [SDNTK]

21. OLIVAS OJEDA, Juan Carlos, Calle Sierra Madre del Sur No. 1525-A, Infonavit Canadas, Culiacan, Sinaloa, Mexico; c/o COMERCIALIZADORA BRIMAR'S, S.A. DE. C.V.; DOB 14 Mar 1965; POB Navolato, Sinaloa, Mexico; Citizen Mexico; Nationality Mexico; (INDIVIDUAL) [SDNTK]

22. VELARDE SARABIA, Antonio, Calle Hidalgo No. 537 Oriente, Col. Centro, Culiacan, Sinaloa, Mexico; c/o COMERCIAL JOANA, S.A. DE C.V.; c/o COMERCIALIZADORA TOQUIN, S.A. DE. C.V.; c/o COMERCIAL DOMELY, S.A. DE C.V.; DOB 27 Oct 1977; Citizen Mexico; Nationality Mexico; R.F.C. # VESA771027B50 (Mexico); (INDIVIDUAL) [SDNTK]

23. OLIVAS OJEDA, Jesus Joaquin, Av. Sexecnal No. 3043, Col. Republica Mexicana, Culiacan, Sinaloa, Mexico; c/o COMERCIALIZADORA TOQUIN, S.A. DE. C.V.; DOB 25 Oct 1955; Citizen Mexico; Nationality Mexico; R.F.C. # OIOJ551025S49 (Mexico); (INDIVIDUAL) [SDNTK]

Entities:

1. SISTEMA DE RADIO DE SINALOA, S.A. DE C.V., Calle Francisco Villa No. 331, Col. Centro, Culiacan, Sinaloa, Mexico; Cll Cristobal Colon 275, Culiacan Rosales, Culiacan, Mexico; Centro Culiacan Ramon Corona Jesus Andrade, Culiacan Rosales, Culiacan, Mexico; Cll Cristobal Colon No. 275, Col. Centro, C.P. 80000, Culiacan, Sinaloa, Mexico; (Clave Catastral CU-37-740-003) Lote 3, Manzana #18, Zona 1, “El Vallado III,” Culiacan, Sinaloa, Mexico; R.F.C. # SRS9903153C5 (Mexico); (ENTITY) [SDNTK]

2. TOYS FACTORY, S.A. DE C.V., Blv. Gustavo Diaz Ordaz No. 1, Col. Las Brisas, Tijuana, Baja California, Mexico; Ave. Presidente Carlos Salinas de Gortari No. 5, Col. Infonavit Presidente, Tijuana, Baja California, Mexico; Ave. Poniente Carlos Salinas S/N, Col. Infonavit, Tijuana, Baja California, Mexico; Blv. Gustavo Diaz Ordaz No. 16E-5, Col. Pque Ind. Bajamar Aguila, Tijuana, Baja California, Mexico; R.F.C. # TFA021112AR9 (Mexico); (ENTITY) [SDNTK]

3. CONSORCIO INMOBILIARIO DEL VALLE DE CULIACAN, S.A. DE C.V., Blvd. Emiliano Zapata No. 20, Col. Centro, Culiacan, Sinaloa, Mexico; Ave. Alvaro Obregon No. 1800, 74M, Colinas de San Miguel, Culiacan, Sinaloa, Mexico; Ave. Alvaro Obregon No. 1800, 75M, Colinas de San Miguel, Culiacan, Sinaloa, Mexico; Ave. Alvaro Obregon No. 1800, 76M, Colinas de San Miguel, Culiacan, Sinaloa, Mexico; Ave. Alvaro Obregon No. 1800, 77M, Colinas de San Miguel, Culiacan, Sinaloa, Mexico; Calle Rodolfo G. Robles No. 158, Culiacan, Sinaloa, Mexico; Calle Miguel Hidalgo No. 590, #3, Culiacan, Sinaloa, Mexico; Calle Miguel Hidalgo No. 590, #4, Culiacan, Sinaloa, Mexico; Valle Aldama No. 257, Col. Centro, Culiacan, Sinaloa, Mexico; R.F.C. # CIV0106199MA (Mexico); (ENTITY) [SDNTK]

4. PATRACA S.A. DE C.V., (a.k.a. BOUTIQUE PATRACA; a.k.a. PATRACA MENS STORE); Calle Miguel Hgo No. 302, Col. Centro, Culiacan, Sinaloa, Mexico; Ave. Alvaro Obregon No. 1800, 74, Col. Colinas de San Miguel, Culiacan, Sinaloa, Mexico; Col. Proyecto Urbano Tres Rios, Culiacan, Sinaloa, Mexico; Calle Benito Juarez, No. 302, Col. Centro, Culiacan, Sinaloa, Mexico; Calle Benito Juarez 302 A altos S/N, Col. Centro, Culiacan, Sinaloa, Mexico; Alvaro Obregon y Cerro de Montelargo Local 74M, 75M, 76M, 7 Colinas de San Miguel, CP 80228, Culiacan, Mexico; Ave Alvaro Obregon No. 1800, 74M, Col. Colinas de San Miguel, C.P. 80228, Culiacan, Sinaloa, Mexico; Cll Jose Diego Valadez Rios 16, Plaza Patraca PB-24, Proyecto Urbano Tres Rios, Culiacan Rosales, Culiacan, 80000, Mexico; Cll Jose Diego Valadez Rios 16, Plaza Patraca PB-16, Proyecto Urbano Tres Rios, Culiacan Rosales, Culiacan, 80000, Mexico; Cll Jose Diego Valadez Rios 16, Plaza Patraca PB-39, Proyecto Urbano Tres Rios, Culiacan Rosales, Culiacan, 80000, Mexico; Cll Jose Diego Valadez Rios No. 1676, Col. Proyecto Urbano Tres Rios, C.P. 80000, Culiacan, Sinaloa, Mexico; Cll Jose Diego Valadez Rios No. 1676, 16, Col. Proyecto Urbano Tres Rios, C.P. 80000, Culiacan, Sinaloa, Mexico; Avenida Jose Maria Morelos 302 Pte, Local 3, Col. Sector Culiacan Centro, Culiacan, Sinaloa, 80000, Mexico; R.F.C. # PAT040318GF7 (Mexico); (ENTITY) [SDNTK]

5. SEPRIV, S.A. DE C.V., Calle Donato Guerra No. 649, 1, Col. Centro, Culiacan, Sinaloa, Mexico; R.F.C. # SEP980319668 (Mexico); (ENTITY) [SDNTK]

6. OPERADORA INTEGRAL DE COMERCIO, S.A. DE C.V., Blvd. Bellas Artes, No. 17686, No. Int. 5, Col. Garita de Otay, Tijuana, Baja California, Mexico; R.F.C. # OIC040925SA9 (Mexico); (ENTITY) [SDNTK]

7. TECNOLOGIA DIGITAL Y SERVICIOS, S.A. DE C.V., Blv. Agua Caliente No. 21, Col. Aviacion, Tijuana, Baja California, Mexico; Blv. Agua Caliente No. 221, Col. Centro Zona Este, Tijuana, Baja California, Mexico; R.F.C. # TDS021031UD6 (Mexico); (ENTITY) [SDNTK]

8. CAZPER IMPORTACIONES, S.A. DE C.V., Ave. Manuel Vallarta No. 2144, Col. Centro, Culiacan, Sinaloa, Mexico; Ave. Manuel Vallarta No. 2136, Int. 1, Col. Centro, Culiacan, Sinaloa, Mexico; Ave Manuel Vallarta 2136, Centro Culiacan Fray Servando Teresa de Mier E, Culiacan de Rosales, Culiacan, Mexico 80129; Ave. Manuel Vallarta #2136-1, Col. Centro Sinaloa, Culiacan, Sinaloa, Mexico; R.F.C. # CIM040429UH4 (Mexico); http://www.cazper.com.mx; (ENTITY) [SDNTK]

9. MULTISERVICIOS AGSA, S.A. DE C.V., Boulevard Agua Caliente No. 148, Revolucion, Tijuana, Baja California, Mexico; R.F.C. # MAG941123BYA (Mexico); (ENTITY) [SDNTK]

10. MEXGLOBO, S.A. DE C.V., Boulevard Agua Caliente No. 148, Col. Revolucion, C.P. 22015, Tijuana, Baja California, Mexico; R.F.C. # MEX9909034Y0 (Mexico); (ENTITY) [SDNTK]

11. AGBAS CONSULTORES, S.A. DE C.V., (d.b.a. AGBA CONSULTORES CASA DE CAMBIO); Boulevard Agua Caliente Tijuana, Baja California, Mexico; Boulevard Agua Caliente No. 148, Col. Revolucion, Tijuana, Baja California, Mexico; Blv Agua Caliente 148, Col. Revolucion Rio Panuco Rio Yaqui, Tijuana, Baja California, Mexico; R.F.C. # ACO040630893 (Mexico); (ENTITY) [SDNTK]

12. COCINA DE TIJUANA, S. DE R.L. DE C.V., Boulevard Sanchez Taboada No. 10451, Colonia Urbano Rio Tijuana, Tijuana, Baja California, Mexico; R.F.C. # CTI050414A55 (Mexico); (ENTITY) [SDNTK]

13. HACIENDA CIEN ANOS DE TIJUANA, S. DE R.L. DE C.V., (a.k.a. COCINA ANTIGUA, S. DE R.L. DE C.V.; a.k.a. LA HACIENDA DE TIJUANA, S. DE R.L. DE C.V.); Blvd. Sanchez Taboada S/N, No. 10451, Zona Rio, Fte. de Saverios e Arreola y cion accesso, Tijuana Baja California, Mexico; Calle Jose Maria Velazco No. 1407, Colonia Zona Rio, Baja California, Mexico; Sanchez Taboada 10451, Rio Tijuana, Arreola y Cjon de Acceso Frente a Saveri, Tijuana, Baja California, Mexico; R.F.C. # HTI010702GR7 (Mexico); Alt. R.F.C. # CAN010702DF8 (Mexico); (ENTITY) [SDNTK]

14. SIN-MEX IMPORTADORA, S.A. DE C.V., (d.b.a. CHIKA'S ACCESORIOS Y COSMETICOS; d.b.a. CHIKA'S; d.b.a. IMPORTCLUB); Poniente 140 No. 639, Col. Industrial Vallejo, Mexico, Distrito Federal, Mexico; Pedro Loza No. 174, Col. Centro, Guadalajara, Jalisco, Mexico; Av. Juarez No. 496, Col. Centro, Guadalajara, Jalisco, Mexico; Alvaro Obregon No. 614, Col. San Juan de Dios Guadalajara, Jalisco, Mexico; Plaza Centro Sur Local D-11, Guadalajara, Jalisco, Mexico; Magno Centro Joyero Sn. Juan de Dios Local 1038, Guadalajara, Jalisco, Mexico; Av. Javier Mina No. 26, Col. San Juan de Dios, Guadalajara, Jalisco, Mexico; Plaza Centro Sur Local I-9, Guadalajara, Jalisco, Mexico; Reforma 217-A, Col. Centro, Leon, Guanajuato, Mexico; Plaza Coliseo Local 11, Col. Centro, Leon, Guanajuato, Mexico; Riva Palacio No. 675 Sur, Col. Almada, Culiacan, Sinaloa, Mexico; Galerias San Miguel Local 40 K, Culiacan, Sinaloa, Mexico; Centro Joyero Local 31, Culiacan, Sinaloa, Mexico; Rubi No. 366-A, Col. Centro, Culiacan, Sinaloa, Mexico; Plaza Galerias Local 22, Col. Colinas de San Miguel, Culiacan, Sinaloa, Mexico; Plaza Fantasia, Calle del Carmen No. 82 Local 28, Distrito Federal, Mexico; Centro Joyero Local 21 y 25, Andador Allende No. 116 Oriente, Aguascalientes, Ags., Mexico; Centro Joyero de Toluca Local 8, Benito Juarez No. 109, Toluca, Estado Mexico, Mexico; Plaza de la Mujer Local 27, Morelos No. 133 Poniente, Monterrey, Nuevo Leon, Mexico; Parras 1750 Int. C, Col. Alamo Oriente, Tlaquepaque, Jalisco, Mexico; Poniente 140 No. 639, Col. Industrial Vallejo, Delegacion Azcapotzalco, Distrito Federal, Mexico; Ignacio Lopez Rayon No. 9104, Col. 1 de Mayo, Toluca, Mexico; Ignacio Lopez Rayon, Col. 5 de Mayo, Toluca, Mexico; Avenida Rayon 104, Col. Colonia Toluca de Lerdo Centro, Toluca, C.P. 50000, Estado de Mexico, Mexico; Avenida Rayon 140 D, Col. Colonia Toluca de Lerdo Centro, Toluca, C.P. 50000, Estado de Mexico, Mexico; R.F.C. # SMI010730DH8 (Mexico); (ENTITY) [SDNTK]

15. COMERCIAL JOANA, S.A. DE C.V., General Eulogio Parra No. 1750-C, Col. El Retiro, Guadalajara, Jalisco, Mexico; General Eulogio Parra No. 61, Interior Z, Col. El Retiro, Guadalajara, Jalisco, Mexico; Parras No. 1750, Col. Educación Alamos, Guadalajara, Mexico; Calle General Eulogio Parra Numero 61-Z, Col. El Retiro, C.P. 44280, Guadalajara, Jalisco, Mexico; R.F.C. # CJO010202HQH (Mexico); alt. R.F.C. # CJO010202HQ4 (Mexico); (ENTITY) [SDNTK]

16. COMERCIALIZADORA BRIMAR'S, S.A. DE C.V., Calle Riva Palacio Sur No. 675, Col. Jorge Almada, Culiacan, Sinaloa, Mexico; R.F.C. # CBS9710303N4 (Mexico); (ENTITY) [SDNTK]

17. COMERCIALIZADORA TOQUIN, S.A. DE C.V., (d.b.a. CHIKA'S COSMETICS AND ACCESSORIES); Poniente 140 #639, Col. Industrial Vallejo, Mexico, Distrito Federal, Mexico; Calle Parras, Numero 1750 Int. C, Col. Alamo Oriente, Tlaquepaque, Jalisco, Mexico; Calzada Gonzalez Gallo, numero 3064, Col. Lomas de San Pedro, C.P. 44897, Guadalajara, Jalisco, Mexico; Calle Paseo del Hospisio 22 1038, Col. Colonia La Perla, Guadalajara, Jalisco, Mexico; R.F.C. # CTO010731CH9 (Mexico); (ENTITY) [SDNTK]

18. COMERCIALIZADORA JALSIN, S.A. DE C.V., (a.k.a. COMERCIALIZADORA JALZIN, S.A. DE C.V.; d.b.a. CHIKA'S ACCESORIOS Y COSMETICOS; d.b.a. CHIKA'S); Parras No. 1750, Col. Educacion Alamos, C.P. 44280, Guadalajara, Jalisco, Mexico; Ave. Juarez No. 496, Col. Centro, C.P. 44100, Guadalajara, Jalisco, Mexico; Cll 271 s/n, Col. Centro, C.P. 44280, Guadalajara, Jalisco, Mexico; Cll 614 s/n, Col. San Jan de Dios, C.P. 44360, Guadalajara, Jalisco, Mexico; Calle Pedro Loza 174, Col. Colonia Guadalajara Centro, Guadalajara, Jalisco, Mexico; Calle Alvaro Obregon 614, Col. Barrio San Juan De Dios, Guadalajara, Jalisco, Mexico; Calle Javier Mina 26, Col. Colonia La Perla, Guadalajara, Jalisco, Mexico; Avenida Javier Mina 28, Col. Barrio San Juan De Dios, Guadalajara, Jalisco, Mexico; Calle Juan Manuel 308, Col. Colonia Guadalajara Centro, Guadalajara, Jalisco, Mexico; Privada Periferico Sur 1835, Col. Pueblo Santa Maria Tequepexpan, Tlaquepaque, Jalisco, Mexico; Calle Alvaro Obregon 614, Col. Colonia La Perla, Guadalajara, Jalisco, Mexico; Andador Pedro Loza 174, Col. Barrio Jesus, Guadalajara, Jalisco, Mexico; Avenida Juarez 498, Col. Colonia Guadalajara Centro, Guadalajara, Jalisco, Mexico; Calle Pedro Loza 184, Col. Colonia Guadalajara Centro, Guadalajara, Jalisco, Mexico; Calle Vasco de Quiroga 32, Col. Colonia Morelia Centro, Morelia, Michoacan, Mexico; Avenida Juarez 496, Col. Centro, Guadalajara, Jalisco, Mexico; Calle Reforma 217 A, Col. Colonia Leon de los Aldamas Centro, Leon, Guanajuato CP 37000, Mexico; Calle Reforma, Esquina Comonfort Esquina Loc 11, Col. Colonia Leon de los Aldamas Centro, Leon, Guanajuato 37000, Mexico; Vasco de Quiroga No. 32, Zona Centro, Morelia, Michoacan, Mexico; R.F.C. # CJA980901J13 (Mexico); (ENTITY) [SDNTK]

19. COMERCIAL DOMELY, S.A. DE C.V., Ignacio Ramirez No. 603, Col. Jorge Almada, Culiacan, Sinaloa, Mexico, C.P. 80200; R.F.C. # CDO010522917 (Mexico); (ENTITY) [SDNTK]

Dated: December 12, 2007.
Adam J. Szubin,
Director, Office of Foreign Assets Control.

[FR Doc. E7-24561 Filed 12-18-07; 8:45 am]

BILLING CODE 4811-42-P